DEPARTMENT OF COMMERCE

Foreign-Trade Zones Board

[B-5-2014]

Foreign-Trade Zone (FTZ) 230—Piedmont Triad Area, North Carolina; Notification of Proposed Production Activity; Oracle Flexible Packaging, Inc. (Foil Backed Paperboard); Winston-Salem, North Carolina

Oracle Flexible Packaging, Inc. (OFP), an operator of FTZ 230, submitted a notification of proposed production activity to the FTZ Board for its facility located in Winston-Salem, North Carolina. The notification conforming to the requirements of the regulations of the FTZ Board (15 CFR 400.22) was received on January 6, 2014.

OFP already has authority to produce laminated foil and foil backed paper products. The current request would add a new finished product (foil backed paperboard) and certain foreign material to the scope of authority. Pursuant to 15 CFR 400.14(b), FTZ activity would be limited to the specific foreign-status materials and specific finished products described in the submitted notification (as described below) and subsequently authorized by the FTZ Board.

Production under FTZ procedures could exempt OFP from customs duty payments on the foreign status materials used in export production. On its domestic sales, OFP would be able to choose the duty rate during customs entry procedures that applies to foil backed paperboard (free) for the foreign status input noted below and the inputs in the existing scope of authority. Customs duties also could possibly be deferred or reduced on foreign status production equipment.

The material sourced from abroad is aluminum converter foil (duty rate: 5.8%).

Public comment is invited from interested parties. Submissions shall be addressed to the FTZ Board's Executive Secretary at the address below. The closing period for their receipt is March 17, 2014.

A copy of the notification will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz.

For further information, contact Pierre Duy at Pierre.Duy@trade.gov or (202) 482-1378.

Dated: January 22, 2014.
Andrew McGilvray,
Executive Secretary.

[FR Doc. 2014-02230 Filed 1-31-14; 8:45 am]

BILLING CODE 3510-DS-P